DEPARTMENT OF HOMELAND SECURITY

Federal Emergency Management Agency

[Docket ID FEMA-2020-0016]

Meetings To Implement Pandemic Response Voluntary Agreement Under Section 708 of the Defense Production Act

AGENCY: Federal Emergency Management Agency, Department of Homeland Security.

ACTION: Notice of meeting cancellations.

SUMMARY: The Federal Emergency Management Agency (FEMA) previously announced a series of meetings under the Plan of Action to Establish a National Strategy for the Coordination of National Multimodal Healthcare Supply Chains to Respond to COVID-19, to implement the Voluntary Agreement for the Manufacture and Distribution of Critical Healthcare Resources Necessary to Respond to a Pandemic. The meetings listed below have been cancelled.

DATES: The meetings scheduled for the dates listed below were cancelled:

• Wednesday, March 16, 2022, from 1 p.m. to 3 p.m. Eastern Time (ET).

• Wednesday, March 30, 2022, from 1 p.m. to 3 p.m. ET.

• Wednesday, April 13, 2022, from 1 p.m. to 3 p.m. ET.

• Wednesday, April 27, 2022, from 1 p.m. to 3 p.m. ET.

• Wednesday, May 11, 2022, from 1 p.m. to 3 p.m. ET.

• Wednesday, May 25, 2022, from 1 p.m. to 3 p.m. ET.

FOR FURTHER INFORMATION CONTACT: Mary Anne Lyle, Office of Business, Industry, and Infrastructure Integration, via email at OB3I@fema.dhs.gov or via phone at (202) 212-1666.

SUPPLEMENTARY INFORMATION: On March 10, 2022, FEMA announced a series of meetings to be held pursuant to section 708(h)(8) of the Defense Production Act (DPA), 50 U.S.C. 4558(h)(8).¹ The meeting scheduled for March 2, 2022, took place as planned, but in light of other efforts to address the draft recommendations of the National Multimodal Healthcare Supply Chains Plan of Action, as well as incremental improvement in the overall multimodal transportation situation, the Sponsor of the Voluntary Agreement,² the FEMA Administrator, no longer sees the need to conduct the other meetings, and has cancelled them.

¹ 87 FR 13742 (Mar. 10, 2022).

² “[T]he individual designated by the President in subsection (c)(2) [of section 708 of the DPA] to administer the voluntary agreement, or plan of action.” 50 U.S.C. 4558(h)(7).

Deanne Criswell,
Administrator, Federal Emergency Management Agency.

[FR Doc. 2022-10219 Filed 5-11-22; 8:45 am]

BILLING CODE 9111-19-P